DEPARTMENT OF ENERGY

Federal Energy Regulatory Commission

Combined Notice of Filings #1

Take notice that the Commission received the following electric rate filings:

Docket Numbers: ER18-1708-000.

Applicants: Copenhagen Wind Farm, LLC.

Description: Supplement to May 31, 2018 Copenhagen Wind Farm, LLC tariff filing.

Filed Date: 6/6/18.

Accession Number: 20180606-5151.

Comments Due: 5 p.m. ET 6/27/18.

Docket Numbers: ER18-1751-000.

Applicants: Southern California Edison Company.

Description: § 205(d) Rate Filing: GIA and Distribution Service Agmt O.L.S. Energy-Chino SA No. 1025-1026 to be effective 7/1/2018.

Filed Date: 6/7/18.

Accession Number: 20180607-5001.

Comments Due: 5 p.m. ET 6/28/18.

Docket Numbers: ER18-1752-000.

Applicants: PJM Interconnection, L.L.C.

Description: § 205(d) Rate Filing: First Revised ISA SA No. 4138; Queue No. AC1-072 to be effective 5/8/2018.

Filed Date: 6/7/18.

Accession Number: 20180607-5004.

Comments Due: 5 p.m. ET 6/28/18.

Docket Numbers: ER18-1753-000.

Applicants: Southwest Power Pool, Inc.

Description: § 205(d) Rate Filing: 2827R4 Kansas Power Pool & Westar Meter Agent Agreement to be effective 6/1/2018.

Filed Date: 6/7/18.

Accession Number: 20180607-5031.

Comments Due: 5 p.m. ET 6/28/18.

Docket Numbers: ER18-1754-000.

Applicants: PJM Interconnection, L.L.C.

Description: § 205(d) Rate Filing: Original WMPA SA No. 5108; Queue No. AC2-175 to be effective 10/28/2017.

Filed Date: 6/7/18.

Accession Number: 20180607-5036.

Comments Due: 5 p.m. ET 6/28/18.

Docket Numbers: ER18-1755-000.

Applicants: Duke Energy Progress, LLC.

Description: Petition of Duke Energy Progress, LLC for Waiver of Tariff Provisions.

Filed Date: 6/6/18.

Accession Number: 20180606-5160.

Comments Due: 5 p.m. ET 6/27/18.

Docket Numbers: ER18-1756-000.

Applicants: Southwest Power Pool, Inc.

Description: § 205(d) Rate Filing: Removal of Requirement to Perform Stand Alone Scenario in DISIS to be effective 8/7/2018.

Filed Date: 6/7/18.

Accession Number: 20180607-5041.

Comments Due: 5 p.m. ET 6/28/18.

Docket Numbers: ER18-1757-000.

Applicants: NextEra Energy Transmission Southwest, LLC, Southwest Power Pool, Inc.

Description: § 205(d) Rate Filing: NextEra Energy Transmission Southwest Formula Rate to be effective 12/31/9998.

Filed Date: 6/7/18.

Accession Number: 20180607-5051.

Comments Due: 5 p.m. ET 6/28/18.

Docket Numbers: ER18-1758-000.

Applicants: Midcontinent Independent System Operator, Inc.

Description: § 205(d) Rate Filing: 2018-06-07_Termination of SA 2933 ITC Transmission-Michigan Wind 3 GIA (J321) to be effective 5/9/2018.

Filed Date: 6/7/18.

Accession Number: 20180607-5052.

Comments Due: 5 p.m. ET 6/28/18.

Docket Numbers: ER18-1759-000.

Applicants: Southern California Edison Company.

Description: § 205(d) Rate Filing: First Amended LGIA Palen SEGS II, LLC Almasol Generating Station SA No. 98 to be effective 6/1/2018.

Filed Date: 6/7/18.

Accession Number: 20180607-5066.

Comments Due: 5 p.m. ET 6/28/18.

Docket Numbers: ER18-1760-000.

Applicants: PJM Interconnection, L.L.C.

Description: § 205(d) Rate Filing: Revised ISA SA No. 4355; Queue No. Z2-011/AD1-109 to be effective 5/10/2018.

Filed Date: 6/7/18.

Accession Number: 20180607-5071.

Comments Due: 5 p.m. ET 6/28/18.

Docket Numbers: ER18-1761-000.

Applicants: Allegheny Energy Supply Company, LLC.

Description: Tariff Cancellation: Cancel Rate schedule FERC No. 3 to be effective 5/3/2018.

Filed Date: 6/7/18.

Accession Number: 20180607-5081.

Comments Due: 5 p.m. ET 6/28/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2018.
Nathaniel J. Davis, Sr.,
Deputy Secretary.

[FR Doc. 2018-12664 Filed 6-12-18; 8:45 am]

BILLING CODE 6717-01-P